DEPARTMENT OF ENERGY

Federal Energy Regulatory Commission

[Docket Nos. RP00-488-001 and RP01-50-002]

Portland Natural Gas Transmission System; Notice of Compliance Filing

August 28, 2002.

Take notice that on August 22, 2002, Portland Natural Gas Transmission System (PNGTS) tendered for filing as part of its FERC Gas Tariff, First Revised Volume No. 1, the revised tariff sheets listed on Appendix A to the filing.

PNGTS states that the filing is being made in compliance with the Commission's July 23, 2002 Order on PNGTS's August 15, 2000 Order No. 637 compliance filing.

PNGTS states that copies of its filing are being served on all jurisdictional customers, applicable state commissions, and to parties on the official service list.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's Web site under the “e-Filing” link.

Linwood A. Watson, Jr.,
Deputy Secretary.

[FR Doc. 02-22486 Filed 9-3-02; 8:45 am]

BILLING CODE 6717-01-P